DEPARTMENT OF AGRICULTURE

Food and Nutrition Service

7 CFR Parts 272 and 273

[Amdt. No. 389]

RIN 0584-AB88

Food Stamp Program: Recipient Claim Establishment and Collection Standards

Correction

In rule document 00-16775 beginning on page 41752 in the issue of Thursday, July 6, 2000, make the following corrections:

1. On page 41752, in the first column, under DATES, in the last line, “August 1, 2000” should read “August 1, 2001”.

§272.1 [Corrected]

2. On page 41774, in the third column, in §272.1(g)(160), in the last line “August 1, 000” should read “August 1, 2001”.

§273.18 [Corrected]

3. On page 41776, in the first column, in §273.18(e)(3)(iv), the text should read as set forth:

(iv) The initial demand letter or notice of adverse action must include language stating:
(A) The amount of the claim.
(B) The intent to collect from all adults in the household when the overpayment occurred.
(C) The type (IPV, IHE, AE or similar language) and reason for the claim.
(D) The time period associated with the claim.
(E) How the claim was calculated.
(F) The phone number to call for more information about the claim.
(G) That, if the claim is not paid, it will be sent to other collection agencies, who will use various collection methods to collect the claim.
(H) The opportunity to inspect and copy records related to the claim.
(I) Unless the amount of the claim was established at a hearing, the opportunity for a fair hearing on the decision related to the claim. The household will have 90 days to request a fair hearing.
(J) That, if not paid, the claim will be referred to the Federal government for federal collection action.
(K) That the household can make a written agreement to repay the amount of the claim prior to it being referred for Federal collection action.
(L) That, if the claim becomes delinquent, the household may be subject to additional processing charges.
(M) That the State agency may reduce any part of the claim if the agency believes that the household is not able to repay the claim.
(N) A due date or time frame to either repay or make arrangements to repay the claim, unless the State agency is to impose allotment reduction.
(O) If allotment reduction is to be imposed, the percentage to be used and the effective date.

4. On page 41778, in §273.18(g)(2)(ii), under the the table heading “(A) For collecting from active (or reactivated) EBT benefits . . .”, under the first entry heading “You . . .”, in the last line “section;.” should read “section;”.

[FR Doc. C0-16775 Filed 8-1-00; 8:45 am]

BILLING CODE 1505-01-D